DEPARTMENT OF HOMELAND SECURITY

Coast Guard

33 CFR Part 100

[Docket No. USCG-2025-0576]

Special Local Regulations; Women Swimmin' for Hospicare Eastern Great Lakes COTP Zone

AGENCY: Coast Guard, DHS.

ACTION: Notification of enforcement of regulation.

SUMMARY: The Coast Guard will enforce special local regulations for the Women Swimmin' for Hospicare on August 9, 2025, to provide for the safety of life on navigable waterways during this event. Our regulation for marine events within the Great Lakes Coast Guard District identifies the regulated area for this event in Ithaca, New York. During the enforcement periods, the operator of any vessel in the regulated area must comply with directions from the Patrol Commander or any Official Patrol displaying a Coast Guard ensign.

DATES: The regulations in 33 CFR 100.901 will be enforced for the Women Swimmin' for Hospicare regulated area listed in item 4 in Table 1 to § 100.901 from 6:00 a.m. to 12:00 p.m. on August 9, 2025.

FOR FURTHER INFORMATION CONTACT: If you have questions about this notification of enforcement, call or email MST2 Vladimir Ratikan, Marine Safety Unit Thousand Islands, U.S. Coast Guard; telephone 315-322-8168, email Vladimir.D.Ratikan@uscg.mil.

SUPPLEMENTARY INFORMATION: The Coast Guard will enforce special local regulations in 33 CFR 100.901 for the Women Swimmin' for Hospicare regulated area listed in item 4 in Table 1 to § 100.901 from 6:00 a.m. to 12:00 p.m. on August 9, 2025. This action is being taken to provide for the safety of life on navigable waterways during this event. Our regulation for marine events within the Great Lakes Coast Guard District, item 4 in Table 1 to § 100.901, specifies the location of the regulated area Woman Swimmin' for Hospicare which encompasses portions of the Cayuga Lake. During the enforcement periods, as reflected in § 100.901, if you are the operator of a vessel in the regulated area you must comply with directions from the Patrol Commander or any Official Patrol displaying a Coast Guard ensign.

In addition to this notification of enforcement in the Federal Register, the Coast Guard plans to provide notification of this enforcement period via the Local Notice to Mariners, and Broadcast Notice to Mariners.

Dated: July 28, 2025.
M. J. Walter,
Captain, U.S. Coast Guard, Captain of the Port Eastern Great Lakes.

[FR Doc. 2025-14737 Filed 8-1-25; 8:45 am]

BILLING CODE 9110-04-P